DEPARTMENT OF COMMERCE

International Trade Administration

[A-570-890]

Wooden Bedroom Furniture From the People's Republic of China: Initiation of Antidumping Duty New Shipper Review

AGENCY: Enforcement and Compliance, formerly Import Administration, International Trade Administration, Department of Commerce.

DATES: Effective Date: February 27, 2014.

SUMMARY: The Department of Commerce (“Department”) determined that the request described below for a new shipper review of the antidumping duty order on wooden bedroom furniture (“WBF”) from the People's Republic of China (“PRC”) meets the statutory and regulatory requirements for initiation. The period of review (“POR”) for the new shipper review is January 1, 2013 through December 31, 2013.

FOR FURTHER INFORMATION CONTACT: Jonathan Hill, AD/CVD Operations, Office IV, Enforcement and Compliance, International Trade Administration, U.S. Department of Commerce, 14th Street and Constitution Avenue NW., Washington, DC 20230; telephone: (202) 482-3518.

SUPPLEMENTARY INFORMATION:

Background

The antidumping duty order on wooden bedroom furniture from the PRC was published on January 4, 2005.¹ On January 30, 2014, pursuant to section 751(a)(2)(B)(i) of the Tariff Act of 1930, as amended (the “Act”), and 19 CFR 351.214(c), the Department received a timely request for a new shipper review from Wuxi Yushea Furniture Co., Ltd. (“Wuxi Yushea”).² On February 7, 2014, the Department received entry data from U.S. Customs and Border Protection (“CBP”).³ We also requested entry documents from CBP in order to confirm certain information reported by Wuxi Yushea. The continuation of the new shipper review will be contingent upon confirmation of the information reported in the initiation request.

¹ See Notice of Amended Final Determination of Sales at Less Than Fair Value and Antidumping Duty Order: Wooden Bedroom Furniture From the People's Republic of China, 70 FR 329 (January 4, 2005).

² See Letter from Yushea to the Secretary of Commerce “Wooden Bedroom Furniture from the People's Republic of China: New Shipper Review Request for Wuxi Yushea Furniture Co., Ltd.,” dated January 30, 2014.

³ See Memorandum to the File through Abdelali Elouaradia, Director, AD/CVD Operations, Office IV “Initiation of Antidumping New Shipper Review of Wooden Bedroom Furniture from the People's Republic of China: Wuxi Yushea Furniture Co., Ltd. Initiation Checklist,” dated concurrently with this notice (“Initiation Checklist”), at items 14-17.

Wuxi Yushea stated that it is the producer and exporter of the subject merchandise upon which its request for a new shipper review is based. Pursuant to section 751(a)(2)(B)(i)(I) of the Act and 19 CFR 351.214(b)(2)(i), Wuxi Yushea certified that it did not export wooden bedroom furniture to the United States during the period of investigation (“POI”). In addition, pursuant to section 751(a)(2)(B)(i)(II) of the Act and 19 CFR 351.214(b)(2)(iii)(A), Wuxi Yushea certified that, since the initiation of the investigation, it has never been affiliated with any PRC exporter or producer who exported wooden bedroom furniture to the United States during the POI, including those not individually examined during the investigation. As required by 19 CFR 351.214(b)(2)(iii)(B), Wuxi Yushea also certified that its export activities were not controlled by the central government of the PRC.⁴

⁴ See, generally, Initiation Checklist.

In addition to the certifications described above, pursuant to 19 CFR 351.214(b)(2)(iv), Wuxi Yushea submitted documentation establishing the following: (1) The date on which it first shipped wooden bedroom furniture for export to the United States; (2) the volume of its first shipment; and (3) the date of its first sale to an unaffiliated customer in the United States.⁵

⁵ Id.

The Department conducted a CBP database query and confirmed by examining the results of the CBP data query that Wuxi Yushea's subject merchandise entered the United States during the POR specified by the Department's regulations.⁶

⁶ See 19 CFR 351.214(g)(1)(i)(A).

Initiation of New Shipper Review

Pursuant to section 751(a)(2)(B) of the Act, 19 CFR 351.214(b), and based on the information on the record, the Department finds that Wuxi Yushea meets the threshold requirements for initiation of a new shipper review of its shipment(s) of wooden bedroom furniture from the PRC.⁷ However, if the information supplied by Wuxi Yushea is later found to be incorrect or insufficient during the course of this proceeding, the Department may rescind the review or apply adverse facts available pursuant to section 776 of the Act, depending upon the facts on the record. The POR for the new shipper review of Wuxi Yushea is January 1, 2013, through December 31, 2013.⁸ Pursuant to 19 CFR 351.221(c)(1)(i), the Department will publish the notice of initiation of a new shipper review no later than the last day of the month following the anniversary or semiannual anniversary month of the order. The Department intends to issue the preliminary results of this review no later than 180 days from the date of initiation, and the final results of this review no later than 90 days after the date the preliminary results are issued.⁹

⁷ See, generally, Initiation Checklist.

⁸ See 19 CFR 351.214(g)(1)(i)(A).

⁹ See section 751(a)(2)(B)(iv) of the Act.

It is the Department's usual practice, in cases involving non-market economies (“NME”), to require that a company seeking to establish eligibility for an antidumping duty rate separate from the NME-wide entity to provide evidence of de jure and de facto absence of government control over the company's export activities. Accordingly, we will issue a questionnaire to Wuxi Yushea which will include a separate rate section. The review of the exporter will proceed if the response provides sufficient indication that the exporter is not subject to either de jure or de facto government control with respect to its exports of wooden bedroom furniture.

We will instruct CBP to allow, at the option of the importer, the posting, until the completion of the review, of a bond or security in lieu of a cash deposit for certain entries of the subject merchandise from Wuxi Yushea in accordance with section 751(a)(2)(B)(iii) of the Act and 19 CFR 351.214(e). Because Wuxi Yushea exports and produces the subject merchandise, the sales of which form the basis of its new shipper review request, we will instruct CBP to permit the use of a bond only for entries of subject merchandise which the respondent exported and produced.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: February 21, 2014.
Christian Marsh,
Deputy Assistant Secretary for Antidumping and Countervailing Duty Operations.

[FR Doc. 2014-04335 Filed 2-26-14; 8:45 am]

BILLING CODE 3510-DS-P